ENVIRONMENTAL PROTECTION AGENCY

[EPA-HQ-OPP-2022-0194; FRL-11374-02-OCSPP]

Pesticide Registration Review: Pesticide Dockets Opened for Review and Comment; Notice of Availability; Correction

AGENCY: Environmental Protection Agency (EPA).

ACTION: Notice; correction.

SUMMARY: EPA issued a notice in the Federal Register of October 18, 2023, announcing the availability of preliminary work plans (PWPs) for the following chemicals: Aureobasidium pullulans and cyflumetofen. EPA mistakenly included cyflumetofen in the list of chemicals with available PWPs. This document corrects that error by deleting cyflumetofen from the list.

FOR FURTHER INFORMATION CONTACT: Susan Bartow, Pesticide Re-evaluation Division (7508M), Office of Pesticide Programs, Environmental Protection Agency, 1200 Pennsylvania Ave. NW, Washington, DC 20460-0001; telephone number: (202) 566-2280; email address: bartow.susan@epa.gov.

SUPPLEMENTARY INFORMATION:

I. General Information

Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. Correction

In the Federal Register of October 18, 2023, in FR Doc. 2023-22996, on pages 71853 and 71854 (Table 1), EPA mistakenly included cyflumetofen in the list of registration review cases with PWPs that are available for public comment. EPA will make the cyflumetofen PWP available for public comment at a later date and will announce its release in a future Federal Register notice.

Authority: 7 U.S.C. 136 et seq.

Dated: October 24, 2023.
Mary Elissa Reaves,
Director, Pesticide Re-Evaluation Division, Office of Pesticide Programs.

[FR Doc. 2023-23920 Filed 10-27-23; 8:45 am]

BILLING CODE 6560-50-P